DEPARTMENT OF ENERGY

Federal Energy Regulatory Commission

[Docket No. CP01-10-000]

Williams Gas Pipelines Central, Inc.; Notice of Intent To Prepare an Environmental Assessment for the Proposed Welda/Ottawa Compression Project and Request for Comments on Environmental Issues

October 25, 2000.

The staff of the Federal Energy Regulatory Commission (FERC or Commission) will prepare an environmental assessment (EA) that will discuss the environmental impacts of the Welda/Ottawa Compression Project involving construction, operation, and abandonment of facilities proposed by Williams Gas Pipelines Central, Inc. (Williams) in Anderson and Franklin Counties, Kansas.¹ Williams proposes to install 6,107 horsepower (hp) of compression and abandon 7,000 hp of compression. This EA will be used by the Commission in its decision-making process to determine whether the project is in the public convenience and necessity.

¹ Williams' application was filed with the Commission under Section 7 of the Natural Gas Act and Part 157 of the Commission's regulations.

If you are a landowner receiving this notice, you should have been contacted by Williams if you reside within ½ mile of the compressor stations. Also, you may be contacted by a pipeline company representative about the acquisition of an easement to construct an access road near the north property line of the Welda compressor Station. The pipeline company would seek to negotiate a mutually acceptable agreement. However, if the project is approved by the commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Williams provided to landowners. This fact sheet addresses a number of typically asked questions, including the use of eminent domain and how to participate in the Commission's proceedings. It is available for viewing on the FERC Internet website (www.ferc.fed.us).

Summary of the Proposed Project

Williams proposes to:

• Abandon by removal seven 1,000-hp Cooper Type 22 compressors at its Ottawa Compressor Station in Franklin County, Kansas; and

• Install one 6,107-hp Solar Centaur 50 turbine and appurtenant facilities at its Welda Compressor Station in Anderson County, Kansas in replacement of the compressors proposed to be abandoned at its Ottawa Compressor Station.

The system modifications would increase operating efficiency and reliability on this segment of Williams' pipeline system. Williams indicates that due to their obsolescence, abandonment of the compressors would enable Williams to eliminate maintenance and parts procurement problems associated with these compressors. Replacement of this compression at the Welda Compressor Station with a new 6,107-hp turbine would enable Williams to operate its Ottawa-Welda 20-inch-diameter pipeline at the existing designed and certificated maximum allowable operating pressure (MAOP) of 690 pounds per square inch gauge during periods of peak withdrawal from the Welda Storage Complex.

Williams indicates that pursuant to 18 Code of Federal Regulation (CFR) 2.55(a) of the Commission's regulations, it would also construct station piping, headers and other appurtenant facilities to tie the three existing turbines into the five existing reciprocating compressors at the Welda Compressor Station in order to utilize these reciprocating compressors as second stage compression during periods of peak withdrawal. This would provide Williams the flexibility of operating the Ottawa-Welda 20-inch-diameter pipeline at the existing certificated MAOP. Williams is identifying the modification in the application for informational purposes.

The location of the proposed project facilities is shown in appendix 1.²

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all these receiving this notice in the mail.

Land Requirements for Construction

The only additional land required for this project is about 0.21 acre of land required to construct a new access road on the north side of the Welda Compressor Station. All other proposed construction work would take place within the 17-acre Welda Compressor Station requiring a disturbance of about 3.89 acres and within the 73-acre Ottawa Compressor Station requiring a disturbance of about 2.53 acres.

The EA Process

The National Environmental Policy Act (NEPA) requires the Commission to take into account the environmental impacts that could result from an action whenever it considers the issuance of a Certificate of Public Convenience and Necessity. NEPA also requires us ³ to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “Us”, “we” and “our” refer to the environmental staff of the FERC's Office of Energy Projects.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

The EA will discuss impacts that could occur as a result of the construction and operation of the proposed project under these general headings:

• Land use

• Cultural resources

• Vegetation and wildlife

• Air quality and noise

• Endangered and threatened species

• Public safety

This preliminary list of issues may be changed based on your comments and our analysis. We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: David P. Boergers, Secretary, Federal Energy Regulatory Commission, 888 First St., N.E., Room 1A, Washington, DC 20426.

• Label one copy of the comments for the attention of the Gas Group 2, PJ-11.2.

• Reference Docket No. CP01-10-000.

• Mail your comments so that they will be received in Washington, DC on or before November 24, 2000. Beginning November 1, 2000, comments and protests may be filed electronically via the internet in lieu of paper. See, 18 CFR 385.200(a)(1)(iii) and the instructions on the Commission's web site at http://www.ferc.fed.us/efi/doorbell.htm.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-27849 Filed 10-31-00; 8:45 am]

BILLING CODE 6717-01-M